DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open meeting.

SUMMARY: Notice is hereby given of a meeting of the Sanctuary System Business Advisory Council (Council). The meeting is open to the public, and participants may provide comments at the appropriate time during the meeting.

DATES: The meeting will be held Wednesday, April 22, 2015, from 10:00 a.m. to 5:00 p.m., and Thursday, April 23, 2015, from 8:30 a.m. to 12:00 p.m. EDT. An opportunity for public comment will be provided on April 23, 2015 at 11:30 a.m. EDT. These times and the agenda topics described below are subject to change.

ADDRESSES: The meeting will be held in the Hubbard Hall Board Room of the National Geographic Society, 1146 16th Street NW., Washington, DC 20036.

FOR FURTHER INFORMATION CONTACT: Gonzalo Cid, Office of National Marine Sanctuaries, 1305 East West Highway, Silver Spring, Maryland 20910. (Phone: 301-713-7278, Fax: 301-713-0404; email: gonzalo.cid@noaa.gov).

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustain healthy environments that are the foundation for thriving communities and stable economies. One of the many ways ONMS ensures public participation in the designation and management of national marine sanctuaries is through the formation of advisory councils. The Sanctuary System Business Advisory Council (Council) has been formed to provide advice and recommendations to the Director regarding the relationship of the ONMS with the business community. Additional information on the Council can be found at http://sanctuaries.noaa.gov/management/bac/welcome.html.

Matters To Be Considered: The meeting will provide an opportunity for council representatives to hear how national marine sanctuaries are connected to users, communities, corporations, and economies and the avenues being pursued to enhance these connections. Advisory council representatives will be asked to provide advice on how ONMS can enhance its connections, programming, and marketing to expand its reach beyond a subset of communities. The agenda is subject to change. The latest version will be posted at http://sanctuaries.noaa.gov/management/bac/welcome.html.

Authority: 16 U.S.C. Sections 1431, et seq.

(Federal Domestic Assistance Catalog Number 11.429 Marine Sanctuary Program)

Dated: February 27, 2015.
Daniel J. Basta,
Director, Office of National Marine Sanctuaries, National Ocean Service, National Oceanic and Atmospheric Administration.

[FR Doc. 2015-07245 Filed 3-31-15; 8:45 am]

BILLING CODE 3510-NK-P